Proclamation 9518 of October 7, 2016

National School Lunch Week, 2016

By the President of the United States of America

A Proclamation

Seventy years ago, President Harry Truman signed the National School Lunch Act, declaring “Nothing is more important in our national life than the welfare of our children, and proper nourishment comes first in attaining this welfare.” This Act created the National School Lunch Program and provided lunch to 7 million children in its first year—today, more than 30 million children depend on it each day. As we observe the 70th anniversary of this program, we recommit to ensuring access to proper nutrition throughout the school day for all our young people so that they may pursue their education and chase their dreams.

Since the beginning of my Administration, I have worked to build on the legacy of the National School Lunch Program. In 2010, the Congress passed and I signed into law the Healthy, Hunger-Free Kids Act, which increased the number of students who could get subsidized or free school meals and improved the quality of school meals. For children from low-income households, meals provided by the National School Lunch Program and the School Breakfast Program may be their only reliable source of nutrition throughout the day. We are working to increase access for more children, including by using Medicaid data to automatically connect eligible students in need to free or reduced-priced meals.

During the school year, nearly 22 million children receive free and reduced-price school meals. When school is out for the summer, well over 2 million children rely on the Summer Food Service Program for nourishment. However, too many kids still lack access to adequate nutrition during the summer months, which is why I proposed investing $12 billion in my latest budget to provide supplemental summer food benefits to children who receive free and subsidized school meals during the academic year.

We must also work to give children greater access to nutritious foods and empower them to make healthy choices. Too many young people are obese or overweight and remain at risk for health problems like diabetes or heart disease later in life. First Lady Michelle Obama has championed efforts to build healthy futures for all children, particularly through the Let's Move! initiative, which has worked to provide healthier meals in our schools and ensure every family has access to healthy, affordable food. The Department of Agriculture updated school nutrition standards to make sure all school meals and snacks meet science-based nutrition criteria, and almost all schools participating in the National School Lunch Program are meeting these standards.

In order for our children to join the most prepared and educated workforce in the world, we must remember the connection between what our kids eat and how well they perform in school. During National School Lunch Week, let us reaffirm our dedication to helping America's daughters and sons succeed by guaranteeing they have access to the healthy meals they need. Let us express our gratitude for the school nutrition professionals, educators, and administrators who are helping deliver the promise of a bright future to schoolchildren across America each day.

The Congress, by joint resolution of October 9, 1962 (Public Law 87-780), as amended, has designated the week beginning on the second Sunday in October each year as “National School Lunch Week” and has requested the President to issue a proclamation in observance of this week.

NOW, THEREFORE, I, BARACK OBAMA, President of the United States of America, do hereby proclaim October 9 through October 15, 2016, as National School Lunch Week. I call upon all Americans to join the dedicated individuals who administer the National School Lunch Program in appropriate activities that support the health and well-being of our Nation's children.

IN WITNESS WHEREOF, I have hereunto set my hand this seventh day of October, in the year of our Lord two thousand sixteen, and of the Independence of the United States of America the two hundred and forty-first.

[FR Doc. 2016-24994

Filed 10-12-16; 11:15 am]

Billing code 3295-F7-P